DEPARTMENT OF THE INTERIOR

Bureau of Land Management

[AZ-050-00-1220-PA; 8322]

Arizona: Closure to Camping and Motor Vehicle Access, Yuma County, Arizona, and Imperial County, CA

AGENCY: Bureau of Land Management, Interior.

ACTION: Notice of closure to motor vehicle traffic and limitation of public access to day use only on public lands. The lands are located on the east side of the Lower Colorado River adjacent to Laguna Dam.

SUMMARY: Notice is hereby given that all motor vehicle access is prohibited and public use is limited to daylight hours only in the area identified as the Protection and Security Zone of Laguna Dam. The closure area is located within T.7 S., R.22 W., Sec. 14, NW¼.

SUPPLEMENTARY INFORMATION: Public lands adjacent to Laguna Dam, which are located within the Protection and Security Zone Area, are closed to motor vehicles, and public access is limited to day use only. This area is being closed to protect public health and safety, to prevent further resource and environmental degradation and for the protection and security of Laguna Dam. The closure will also directly benefit the public by reducing health and safety problems presently occurring. This closure will reduce problems associated with trespass, dust, illegal tree cutting, soil compaction, illegal trash and sewage disposal, unauthorized use of adjacent fee facilities and human-caused fires.

These conditions are occurring and have intensified with increasing numbers of campers and other users located within this confined area. Authority for this action is contained in 43 CFR 8364.1. This closure to motor vehicle traffic use and limitation on public use shall apply to all persons and shall remain in effect until further notice.

Exemptions to this order are granted to law enforcement, emergency vehicles, and agency personnel in the course of official duties. All other exemptions to this order are by written authorization of the Yuma Field Office Manager only.

Maps of this area are available at the Yuma Field Office, 2555 Gila Ridge Road, Yuma, Arizona. Violation of this regulation is punishable by a fine not to exceed $100,000 and/or imprisonment not to exceed 12 months. Vehicles found in violation of this closure notice are subject to being towed at the owners expense.

EFFECTIVE DATE: October 15, 2000.

FOR FURTHER INFORMATION CONTACT: Mark Lowans, Yuma Field Office, 2555 Gila Ridge Road, Yuma, Arizona 85365 (520) 317-3210.

Dated: September 20, 2000.
Maureen A. Merrell,
Assistant Field Manager/Acting Field Manager.

[FR Doc. 00-25363 Filed 10-2-00; 8:45 am]

BILLING CODE 4310-32-U